DEPARTMENT OF ENERGY

Federal Energy Regulatory Commission

Combined Notice of Filings #1

Take notice that the Commission received the following electric corporate filings:

Docket Numbers: EC23-112-000.

Applicants: Elliott Associates, L.P., Elliott International, L.P., The Liverpool Limited Partnership.

Description: Amendment to August 11, 2023, Joint Application for Authorization Under Section 203 of the Federal Power Act of Elliott Associates, L.P., et al.

Filed Date: 8/15/23.

Accession Number: 20230815-5177.

Comment Date: 5 p.m. ET 9/5/23.

Docket Numbers: EC23-118-000.

Applicants: Yellow Pine Solar, LLC, Yellow Pine Solar Interconnect, LLC.

Description: Errata to August 10, 2023, Joint Application for Authorization Under Section 203 of the Federal Power Act of Yellow Pine Solar, LLC, et al.

Filed Date: 8/14/23.

Accession Number: 20230814-5285.

Comment Date: 5 p.m. ET 8/31/23.

Take notice that the Commission received the following exempt wholesale generator filings:

Docket Numbers: EG23-259-000.

Applicants: Wildflower Solar 2 LLC.

Description: Wildflower Solar 2 LLC submits Notice of Self-Certification of Exempt Wholesale Generator Status.

Filed Date: 8/17/23.

Accession Number: 20230817-5088.

Comment Date: 5 p.m. ET 9/7/23.

Docket Numbers: EG23-260-000.

Applicants: Wildflower Solar 3 LLC.

Description: Wildflower Solar 3 LLC submits Notice of Self-Certification of Exempt Wholesale Generator Status.

Filed Date: 8/17/23.

Accession Number: 20230817-5091.

Comment Date: 5 p.m. ET 9/7/23.

Take notice that the Commission received the following electric rate filings:

Docket Numbers: ER18-92-004.

Applicants: Carroll County Energy LLC.

Description: Compliance filing: Informational Filing Regarding Transfer of Ownership to be effective N/A.

Filed Date: 8/17/23.

Accession Number: 20230817-5066.

Comment Date: 5 p.m. ET 9/7/23.

Docket Numbers: ER23-1372-003.

Applicants: Gaucho Solar LLC.

Description: Compliance filing: Informational Filing Pursuant to Schedule 2 of the PJM OATT & Request for Waiver to be effective N/A.

Filed Date: 8/17/23.

Accession Number: 20230817-5123.

Comment Date: 5 p.m. ET 9/7/23.

Docket Numbers: ER23-2040-001.

Applicants: New York Independent System Operator, Inc.

Description: Tariff Amendment: NYISO Deficiency Response re: DER and Aggregation Market Rule Changes to be effective 12/31/9998.

Filed Date: 8/17/23.

Accession Number: 20230817-5079.

Comment Date: 5 p.m. ET 9/7/23.

Docket Numbers: ER23-2391-001.

Applicants: Public Service Company of New Mexico.

Description: Tariff Amendment: Supplemental Filing to PNM CAISO Phase 2 Enhancements to be effective 7/1/2023.

Filed Date: 8/17/23.

Accession Number: 20230817-5097.

Comment Date: 5 p.m. ET 8/28/23.

Docket Numbers: ER23-2492-001.

Applicants: Gunvor USA LLC.

Description: Tariff Amendment: Amendment to 1 to be effective 9/24/2023.

Filed Date: 8/17/23.

Accession Number: 20230817-5110.

Comment Date: 5 p.m. ET 9/7/23.

Docket Numbers: ER23-2638-000.

Applicants: NRG Business Marketing LLC.

Description: Baseline eTariff Filing: Notice of Succession and Request for Waiver to be effective 8/16/2023.

Filed Date: 8/16/23.

Accession Number: 20230816-5142.

Comment Date: 5 p.m. ET 9/6/23.

Docket Numbers: ER23-2639-000.

Applicants: NRG Business Marketing LLC.

Description: Compliance filing: Notice of Succession and Request for Waiver to be effective 8/16/2023.

Filed Date: 8/16/23.

Accession Number: 20230816-5145.

Comment Date: 5 p.m. ET 9/6/23.

Docket Numbers: ER23-2640-000.

Applicants: NorthWestern Corporation.

Description: NorthWestern Corporation submits Average System Cost Filing for Sales of Electric Power to the Bonneville Power Administration, FY 2024-2025.

Filed Date: 8/11/23.

Accession Number: 20230811-5187.

Comment Date: 5 p.m. ET 9/1/23.

Docket Numbers: ER23-2641-000.

Applicants: NRG Power Marketing LLC.

Description: Tariff Amendment: Notice of Cancellation and Request for Waiver to be effective 8/1/2023.

Filed Date: 8/16/23.

Accession Number: 20230816-5147.

Comment Date: 5 p.m. ET 9/6/23.

Docket Numbers: ER23-2642-000.

Applicants: NRG Power Marketing LLC.

Description: Tariff Amendment: Notice of Cancellation and Request for Waiver to be effective 8/1/2023.

Filed Date: 8/16/23.

Accession Number: 20230816-5150.

Comment Date: 5 p.m. ET 9/6/23.

Docket Numbers: ER23-2643-000.

Applicants: Portland General Electric Company.

Description: Portland General Electric Company submits Average System Cost Rate Filing for Sales of Electric Power to the Bonneville Power Administration, FY 2024-2025.

Filed Date: 8/11/23.

Accession Number: 20230811-5188.

Comment Date: 5 p.m. ET 9/1/23.

Docket Numbers: ER23-2644-000.

Applicants: PJM Interconnection, L.L.C.

Description: Tariff Amendment: Notice of Cancellation of WMPA, Service Agreement No. 5666; Queue No. AF1-033 to be effective 10/16/2023.

Filed Date: 8/17/23.

Accession Number: 20230817-5026.

Comment Date: 5 p.m. ET 9/7/23.

Docket Numbers: ER23-2645-000.

Applicants: Public Service Company of New Hampshire.

Description: § 205(d) Rate Filing: First Amend—Engineering Design Procurement Agreement—NECEC Transmission LLC to be effective 8/18/2023.

Filed Date: 8/17/23.

Accession Number: 20230817-5029.

Comment Date: 5 p.m. ET 9/7/23.

Docket Numbers: ER23-2646-000.

Applicants: Alabama Power Company, Georgia Power Company, Mississippi Power Company.

Description: § 205(d) Rate Filing: Alabama Power Company submits tariff filing per 35.13(a)(2)(iii: Hecate Energy Cedar Springs Solar LGIA Filing to be effective 8/7/2023.

Filed Date: 8/17/23.

Accession Number: 20230817-5054.

Comment Date: 5 p.m. ET 9/7/23.

Docket Numbers: ER23-2647-000.

Applicants: PJM Interconnection, L.L.C.

Description: § 205(d) Rate Filing: Original ISA, Service Agreement No. 7042; Queue No. AE1-245 to be effective 7/18/2023.

Filed Date: 8/17/23.

Accession Number: 20230817-5100.

Comment Date: 5 p.m. ET 9/7/23.

Docket Numbers: ER23-2648-000.

Applicants: Carroll County Energy LLC.

Description: Request for Limited Waiver of Carroll County Energy LLC.

Filed Date: 8/17/23.

Accession Number: 20230817-5103.

Comment Date: 5 p.m. ET 9/7/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 17, 2023.
Debbie-Anne A. Reese,
Deputy Secretary.

[FR Doc. 2023-18109 Filed 8-22-23; 8:45 am]

BILLING CODE 6717-01-P